DEPARTMENT OF DEFENSE

Office of the Secretary

[Transmittal No. 25-1C]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1C.

Dated: January 22, 2026.
Stephanie J. Bost,
Alternate OSD Federal Register Liaison Officer, Department of Defense.

BILLING CODE 6001-FR-P

BILLING CODE 6001-FR-C

Transmittal No. 25-1C

REPORT OF ENHANCEMENT OR UPGRADE OF SENSITIVITY OF TECHNOLOGY OR CAPABILITY (SEC. 36(B)(5)(C), AECA)

(i) Prospective Purchaser: Government of Poland

(ii) Sec. 36(b)(1), AECA Transmittal No.: 23-67

Date: September 13, 2023

Implementing Agency: Air Force

Funding Source: National Funds

(iii) Description: On September 13, 2023, Congress was notified by congressional certification transmittal number 23-67 of the possible sale, under Section 36(b)(1) of the Arms Export Control Act, of Electronic Warfare database reprogramming support; classified and unclassified software delivery and support; classified and unclassified publications and technical documentation; spare parts, consumables, accessories, and repair and return support; computer program identification numbers; engine Component Improvement Program support; minor modifications; maintenance and maintenance support; studies and surveys; United States (U.S.) Government and contractor engineering, technical, and logistics support services; and other related elements of logistics and program support. The estimated total cost was $389 million. There was no Major Defense Equipment (MDE) associated with this sale.

This transmittal notifies the inclusion of the following additional non-MDE items: aircraft components, parts, and accessories; and other related elements of logistics and program support. The estimated total cost of the new items is $611 million. The estimated total case value will increase by $611 million to a revised $1 billion. There is no MDE associated with this sale.

(iv) Significance: This notification is being provided as the additional non-MDE items were not enumerated in the original notification. The inclusion of these items represents an increase in capability over what was previously notified. The proposed sale will support Poland's capability to meet current and future threats by increasing the reliability of their F-16 fleet, while expanding its national defense capabilities and supporting the common defense of NATO.

(v) Justification: This proposed sale will support the foreign policy and national security objectives of the U.S. by improving the security of a NATO Ally that is a force for political stability and economic progress in Europe.

(vi) Sensitivity of Technology:

The Sensitivity of Technology Statement contained in the original notification applies to items reported here.

The highest level of classification of defense articles, components, and services included in this potential sale is SECRET.

(vii) Date Report Delivered to Congress: September 18, 2025

[FR Doc. 2026-01508 Filed 1-26-26; 8:45 am]

BILLING CODE 6001-FR-P